Proclamation 8076 of October 30, 2006

National American Indian Heritage Month, 2006

By the President of the United States of America

A Proclamation

During National American Indian Heritage Month, we honor the generations of American Indians and Alaska Natives who have added to the character of our Nation. This month is an opportunity to celebrate their many accomplishments and their rich ancestry and traditions.

America is blessed by the character and strength of American Indians and Alaska Natives, and our citizens are grateful for the countless ways Native Americans have enriched our country and lifted the spirit of our Nation. We are especially grateful for the Native Americans who have served and continue to serve in our Nation's military. These brave individuals have risked their lives to protect our citizens, defend our democracy, and spread the blessings of liberty to people around the world.

My Administration is working to ensure that American Indians and Alaska Natives have access to all the opportunities of this great land. My fiscal year 2007 budget proposes more than $12.7 billion for government programs for Native Americans. Education is vital to ensuring all citizens reach their full potential, and my budget includes funding to help Native-American schools succeed and meet the requirements of the No Child Left Behind Act. The Bureau of Indian Affairs is providing education for approximately 46,000 American-Indian and Alaska-Native children. To help keep Native Americans safe, I have also proposed to increase law enforcement personnel and improve law enforcement facilities in American-Indian communities. My Administration will continue to work on a government-to-government basis with tribal governments, honor the principles of tribal sovereignty and the right to self-determination, and help ensure America remains a land of promise for American Indians, Alaska Natives, and all our citizens.

NOW, THEREFORE, I, GEORGE W. BUSH, President of the United States of America, by virtue of the authority vested in me by the Constitution and laws of the United States, do hereby proclaim November 2006 as National American Indian Heritage Month. I call upon all Americans to commemorate this month with appropriate programs and activities.

IN WITNESS WHEREOF, I have hereunto set my hand this thirtieth day of October, in the year of our Lord two thousand six, and of the Independence of the United States of America the two hundred and thirty-first.

[FR Doc. 06-9061

Filed 11-1-06; 8:45 am]

Billing code 3195-01-P